POSTAL SERVICE

Temporary Emergency Committee of the Board of Governors; Sunshine Act Meeting

TIME AND DATE: November 4, 2016 at 1 p.m.

PLACE: Washington, DC, via Teleconference.

STATUS: Committee Votes to Close November 4, 2016, Meeting: By telephone vote on November 4, 2016, members of the Temporary Emergency Committee of the Board of Governors of the United States Postal Service met and voted unanimously to close to public observation its meeting held in Washington, DC, via teleconference. The Committee determined that no earlier public notice was possible.

Matters Considered

Friday, November 4, 2016 at 1 p.m.

1. Pricing.

2. Strategic Issues.

General Counsel Certification: The General Counsel of the United States Postal Service has certified that the meeting was properly closed under the Government in the Sunshine Act.

CONTACT PERSON FOR MORE INFORMATION: Julie S. Moore, Secretary of the Board, U.S. Postal Service, 475 L'Enfant Plaza SW., Washington, DC 20260-1000, telephone (202) 268-4800.

Julie S. Moore,
Secretary, Board of Governors.

[FR Doc. 2016-27145 Filed 11-7-16; 11:15 am]

BILLING CODE 7710-12-P